DEPARTMENT OF COMMERCE

National Oceanic and Atmospheric Administration

RIN 0648-XE565

Endangered and Threatened Species; Take of Anadromous Fish

AGENCY: National Marine Fisheries Service (NMFS), National Oceanic and Atmospheric Administration (NOAA), Commerce.

ACTION: Notice; availability of permit application and request for comment.

SUMMARY: Notice is hereby given that NMFS has received an update to an application for a direct take permit, in the form of a Hatchery and Genetic Management Plan (HGMP), from the Chelan County Public Utility District (PUD) pursuant to the Endangered Species Act (ESA). The HGMP specifies the operation of a portion of a hatchery program rearing salmon in the Methow Basin within the State of Washington. This document serves to notify the public of the availability of the update to the existing permit application for comment prior to a decision by NMFS whether to issue the permit for the proposed hatchery program. NMFS also notifies the public of the intention to issue a separate ESA permit to the Confederated Tribes and Bands of the Yakama Nation for operation of a component of the program described in the application update.

DATES: Comments must be received at the appropriate address or email mailbox (see ADDRESSES) no later than 5 p.m. Pacific time on May 18, 2016.

ADDRESSES: Written comments on the application should be addressed to the NMFS Sustainable Fisheries Division, 1201 NE. Lloyd Boulevard, Suite 1100, Portland, OR 97232, or faxed to 503-872-2737. Comments may be submitted by email. The mailbox address for providing email comments is: ChelanPlan.wcr@noaa.gov. Include in the subject line of the email comment the following identifier: Comments on Chelan's 2016 Methow Hatchery Plan. The HGMP is available on the Internet at www.westcoast.fisheries.noaa.gov.

FOR FURTHER INFORMATION CONTACT: Charlene Hurst, at phone number: (503) 230-5409, or via email: charlene.n.hurst@noaa.gov.

SUPPLEMENTARY INFORMATION:

ESA-Listed Species Covered in This Notice

Chinook salmon (Oncorhynchus tshawytscha): Endangered, naturally produced and artificially propagated Upper Columbia River.

Steelhead (O. mykiss): Threatened, naturally produced and artificially propagated Upper Columbia River.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species under section 10(a)(1)(A) of the ESA. NMFS regulations governing permits for threatened and endangered species are promulgated at 50 CFR 222.307.

The Methow spring Chinook hatchery program is an ongoing hatchery program designed to meet conservation and mitigation responsibilities related to impacts from development in the Methow and Columbia River basins. On November 13, 2012, NMFS received an ESA section 10(a)(1)(A) permit application from the Douglas and Grant County PUDs and the Washington Department of Fish and Wildlife (WDFW) for the Methow spring Chinook hatchery program. The permit application was in the form of an HGMP and was made available for public comment on December 10, 2013 (78 FR 74116).

On March 29, 2016, the Chelan County PUD submitted an HGMP updating a portion of the original permit application. The HGMP includes a gene flow management plan, a reduction in the number of juveniles released, and a description of an additional remote acclimation/release site. A separate section 10(a)(1)(A) permit would be issued to the Confederated Tribes and Bands of the Yakama Nation for operation of this additional remote acclimation/release site, as described in the Chelan County PUD HGMP.

Authority

This notice is provided pursuant to section 10(c) of the ESA. NMFS will evaluate the permit application, associated documents, and comments submitted thereon to determine whether the application meets the requirements of section 10(a)(1)(A) of the ESA. If it is determined that the requirements are met, permits will be issued to WDFW, the PUDs, and the Confederated Tribes and Bands of the Yakama Nation. NMFS will publish a record of its final action in the Federal Register.

Dated: April 13, 2016.
Angela Somma,
Chief, Endangered Species Division, Office of Protected Resources, National Marine Fisheries Service.

[FR Doc. 2016-08905 Filed 4-15-16; 8:45 am]

BILLING CODE 3510-22-P